DEPARTMENT OF COMMERCE

International Trade Administration

[A-427-801, A-428-801, A-475-801, A-588-804, A-412-801]

Ball Bearings and Parts Thereof From France, Germany, Italy, Japan, and the United Kingdom: Partial Rescission of Antidumping Duty Administrative Review

AGENCY: Import Administration, International Trade Administration, Department of Commerce.

SUMMARY: In response to requests from interested parties, the Department of Commerce (the Department) initiated administrative reviews of the antidumping duty orders on ball bearings and parts thereof from France, Germany, Italy, Japan, and the United Kingdom. The period of review is May 1, 2009, through April 30, 2010. The Department is rescinding these reviews in part.

DATES: Effective Date: November 12, 2010.

FOR FURTHER INFORMATION CONTACT: Dustin Ross or Richard Rimlinger, AD/CVD Operations, Office 5, Import Administration, International Trade Administration, U.S. Department of Commerce, 14th Street and Constitution Avenue, NW., Washington, DC 20230; telephone: (202) 482-0747 or (202) 482-4477, respectively.

SUPPLEMENTARY INFORMATION:

Background

On June 30, 2010, based on requests from interested parties, we initiated administrative reviews of the antidumping duty orders on ball bearings and parts thereof from France, Germany, Italy, Japan, and the United Kingdom in accordance with section 751(a) of the Tariff Act of 1930 (the Act) and 19 CFR 351.221(c)(1)(i). See Initiation of Antidumping and Countervailing Duty Administrative Reviews and Requests for Revocation in Part, 75 FR 37759 (June 30, 2010).

Rescission of Reviews in Part

In accordance with 19 CFR 351.213(d)(1), the Department will rescind an administrative review in part “if a party that requested a review withdraws the request within 90 days of the date of the publication of notice of initiation of the requested review.” Subsequent to the initiation of these reviews, we received timely withdrawals of the requests we had received for the reviews as follows:

Country | Company
France | Edwards Ltd. and Edwards High Vacuum Int'l. Ltd., Microturbo SAS, Pratt & Whitney, Ringball Corporation.
Germany | Avio (formerly known as FiatAvio), Cerobear GmbH, Edwards Ltd. and Edwards High Vacuum Int'l. Ltd., Fitchel & Sachs AG, Neuwig Fertigung GmbH, Pratt & Whitney, Ringball Corporation, RWG Frankenjura-Industrie Flugwerklager GmbH, SNR Walzlager GmbH.
Italy | Avio, S.p.A. (formerly known as FiatAvio), Meter S.p.A., Ringball Corporation.
Japan | Aisin Seiki Co. Ltd., Avio (formerly known as (Avio), Canon Inc., Fukuyama Shoji Co., Ltd., IKO Nippon Thompson Co., Ltd. (formerly known as Nippon Thompson Co., Ltd.), Inoue Jukuuke Kogyo Co., Ltd., Izumoto Seiko Co., Ltd., Makino Milling Machine Company, Nankai Seiko Co., Ltd., Nippon Pillow Block Co., Ltd., Nippon Pillow Block Sales Co., Osaka Pump Co. Ltd., Sapporo Precision, Inc., and Tokyo Precision, Inc., Takeshita Seiko Co., Ltd., Univance Corp.
The United Kingdom | Pratt & Whitney, Rolls-Royce PLC.

In addition, on September 1, 2010, the Department revoked, in part, the antidumping duty order on ball bearings and parts thereof from the United Kingdom as it applies to all subject merchandise exported and/or sold by The Barden Corporation (U.K.) Limited and Schaeffler (U.K.) Limited. See Ball Bearings and Parts Thereof From France, et al.: Final Results of Antidumping Duty Administrative Reviews, Final Results of Changed-Circumstances Review, and Revocation of an Order in Part, 75 FR 53661 (September 1, 2010). The effective date of the revocation is May 1, 2009. Therefore, we are also rescinding the review of the 2009/2010 period with respect to The Barden Corporation (U.K.) Limited and Schaeffler (U.K.) Limited.

Because there are no other requests for review of the above-named firms, we are rescinding the reviews with respect to these companies in accordance with 19 CFR 351.213(d)(1). We will instruct U.S. Customs and Border Protection (CBP) to liquidate entries not still subject to the ongoing review at the rate required at the time of entry. See 19 CFR 351.212(c)(1).

With respect to entries of subject merchandise produced by The Barden Corporation (U.K.) Limited or Schaeffler (U.K.) Limited which do not meet the terms of the revocation and which were entered, or withdrawn from warehouse, for consumption between May 1, 2009, and April 30, 2010, we will instruct CBP to liquidate applicable entries at the cash-deposit rate for merchandise produced by The Barden Corporation (U.K.) Limited or Schaeffler (U.K.) Limited in effect at the time of entry unless such entries concern imports of subject merchandise from entities (e.g. resellers of merchandise produced by The Barden Corporation (U.K.) Limited or Schaeffler (U.K.) Limited) which continue to be subject to the ongoing review of the order on subject merchandise from the United Kingdom.

The Department intends to issue appropriate assessment instructions to CBP 15 days after publication of this notice.

Notification

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice is published in accordance with section 777(i)(1) of the Act and 19 CFR 351.213(d)(4).

Dated: November 4, 2010.
Susan H. Kuhbach,
Acting Deputy Assistant Secretary for Antidumping and Countervailing Duty Operations.

[FR Doc. 2010-28567 Filed 11-10-10; 8:45 am]

BILLING CODE 3510-DS-P